DEPARTMENT OF THE INTERIOR

Fish and Wildlife Service

Notice of Meeting of the Klamath Fisheries Council

AGENCY: Fish and Wildlife Service, Interior.

ACTION: Notice of Meeting.

SUMMARY: Pursuant to section 10(a)(2) of the Federal Advisory Committee Act (5 U.S.C. App. I), this notice announces a meeting of the Klamath Fishery Management Council, established under the authority of the Klamath River Basin Fishery Resources Restoration Act (16 U.S.C. 460ss et seq.). The Klamath Fishery Management Council makes recommendations to agencies that regulate harvest of anadromous fish in the Klamath River Basin. The objectives of this meeting are to hear technical reports, to discuss and develop Klamath fall chinook salmon harvest management options for the 2002 season, and to make recommendations to the Pacific Fishery Management Council and other agencies. The meeting is open to the public.

DATES: The Klamath Fishery Management Council will meet from 3:00 p.m. to 5:00 p.m. on Sunday, April 7, 2002.

ADDRESSES: The meeting will be held at the Columbia River Doubletree Hotel, 1401 N. Hayden Island Drive, Portland, Oregon.

FOR FURTHER INFORMATION CONTACT: Phil Detrich, Project Leader, 1829 South Oregon Street, Yreka, California 96097, telephone (530) 842-5763.

SUPPLEMENTARY INFORMATION: At the April 7, 2002, meeting, the Klamath Fishery Management Council may schedule short follow-up meetings to be held between April 8, 2002, and April 12, 2002, at the Columbia River Doubletree Hotel, 1401 N. Hayden Island Drive, Portland, Oregon, where the Pacific Fishery Management Council will be meeting.

For background information on the Klamath Council, please refer to the notice of their initial meeting that appeared in the Federal Register on July 8, 1987 (52 FR 25639).

Dated: February 1, 2002.
John Engbring,
Acting Manager, California/Nevada Operations Office, Sacramento, California.

[FR Doc. 02-3607 Filed 2-13-02; 8:45 am]

BILLING CODE 4310-55-P